DEPARTMENT OF COMMERCE

International Trade Administration

[A-791-815, A-570-873]

Ferrovanadium From the Republic of South Africa and the People's Republic of China: Final Results of the Expedited Third Sunset Reviews of the Antidumping Duty Orders

AGENCY: Enforcement and Compliance, International Trade Administration, Department of Commerce.

SUMMARY: As a result of these expedited sunset reviews, Commerce finds that revocation of the antidumping duty (AD) orders would be likely to lead to the continuation or recurrence of dumping at the levels indicated in the “Final Results of Review” section of this notice.

DATES: Applicable May 5, 2020.

FOR FURTHER INFORMATION CONTACT: Ian Hamilton AD/CVD Operations, Office II, Enforcement and Compliance, International Trade Administration, U.S. Department of Commerce, 1401 Constitution Avenue NW, Washington, DC 20230; telephone: (202) 482-4798.

SUPPLEMENTARY INFORMATION:

Background

On January 2, 2020, Commerce published the notice of initiation of the third sunset review of the AD orders on ferrovanadium from the Republic of South Africa (South Africa) and the People's Republic of China (China) ¹ pursuant to section 751(c) of the Tariff Act of 1930, as amended (the Act).² On January 17, 2020, Commerce received notices of intent to participate from the Vanadium Producers and Reclaimers Association (VPRA) and its individual members—AMG Vanadium LLC (AMG V), Evergreen Metallurgical LLC, d.b.a. Bear Metallurgical Company (Bear), and U.S. Vanadium, LLC (U.S. Vanadium), within the 15-day deadline specified in 19 CFR 351.218(d)(1)(i).³ VPRA claimed interested party status under section 771(9)(E) of the Act as a trade or business association a majority of whose members manufacture, produce, or wholesale a domestic like product in the United States.

¹ See Notice of Antidumping Duty Order: Ferrovanadium from the Republic of South Africa, 68 FR 4169 (January 28, 2003); see also Notice of Amended Final Antidumping Duty Determination of Sales at Less Than Fair Value and Antidumping Duty Order: Ferrovanadium from the People's Republic of China, 68 FR 4168 (January 28, 2003).

² See Initiation of Five-Year (Sunset) Reviews, 85 FR 67 (January 2, 2020).

³ See VPRA's Letter, “Ferrovanadium from South Africa: Notice of Intent to Participate,” dated January 17, 2020; see also VPRA's Letter, “Ferrovanadium from the People's Republic of China: Notice of Intent to Participate,” dated January 17, 2020. VPRA indicated that AMG V and Bear are producers of a domestic like product, ferrovanadium, in the United States and wholesalers of domestically-produced ferrovanadium in the United States, and that U.S. Vanadium has periodically been a wholesaler of domestically produced ferrovanadium in the United States.

On January 27, 2020, Commerce received adequate substantive responses to the notice of initiation from VPRA within the 30-day deadline specified in 19 CFR 351.218(d)(3)(i).⁴ We received no substantive responses from respondent interested parties with respect to either of the orders covered by these sunset reviews.

⁴ See VPRA's Letter, “Ferrovanadium from the Republic of South Africa: Substantive Response to the Notice of Initiation,” dated January 27, 2020; see also VPRA's Letter, “Ferrovanadium from the People's Republic of China: Substantive Response to the Notice of Initiation,” dated January 27, 2020.

On February 25, 2020, Commerce notified the U.S. International Trade Commission that it did not receive an adequate substantive response from respondent interested parties.⁵ As a result, pursuant to 751(c)(3)(B) of the Act and 19 CFR 351.218(e)(1)(ii)(C)(2), Commerce conducted expedited (120-day) sunset reviews of the AD orders on ferrovanadium from South Africa and China.

⁵ See Commerce's Letter, “Sunset Review {sic} Initiated on January 2, 2020,” dated February 25, 2020.

Scope of the Orders

The scope of these orders covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitride vanadium, vanadium-aluminum master alloys, vanadium chemicals, vanadium oxides, vanadium waste and scrap, and vanadium-bearing raw materials such as slag, boiler residues and fly ash. Merchandise under the following Harmonized Tariff Schedule of the United States (HTSUS) item numbers 2850.00.2000, 8112.40.3000, and 8112.40.6000 are specifically excluded.

Ferrovanadium is classified under HTSUS item number 7202.92.00. Although the HTSUS item number is provided for convenience and Customs purposes, Commerce's written description of the scope of these orders remains dispositive.

Analysis of Comments Received

All issues raised in these sunset reviews are addressed in the Issues and Decision Memorandum.⁶ The issues discussed in the Issues and Decision Memorandum are the likelihood of continuation or recurrence of dumping and the magnitude of the dumping margin likely to prevail if the orders were revoked. The Issues and Decision Memorandum is a public document and is on file electronically via Enforcement and Compliance's Antidumping and Countervailing Duty Centralized Electronic Service System (ACCESS). ACCESS is available to registered users at http://acess.trade.gov. A list of topics discussed in the Issues and Decision Memorandum is included as an appendix to this notice. In addition, a complete version of the Issues and Decision Memorandum can be accessed directly on the internet at http://enforcement.trade.gov/frn. The signed and electronic versions of the Issues and Decision Memorandum are identical in content.

⁶ See Memorandum, “Issues and Decision Memorandum for the Expedited Third Sunset Reviews of the Antidumping Duty Orders on Ferrovanadium from the Republic of South Africa and the People's Republic of China,” dated concurrently with, and hereby adopted by, this notice (Issues and Decision Memorandum).

Final Results of Reviews

Pursuant to sections 751(c)(1) and 752(c)(1) and (3) of the Act, Commerce determines that revocation of the AD orders on ferrovanadium from South Africa and China would be likely to lead to the continuation or recurrence of dumping at weighted-average dumping margins up to 116.00 percent for South Africa and 66.71 percent for China.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218.

Dated: April 29, 2020.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

A. Likelihood of Continuation or Recurrence of Dumping

B. Magnitude of the Dumping Margins Likely To Prevail

VII. Final Results of Sunset Reviews

VIII. Recommendation

[FR Doc. 2020-09582 Filed 5-4-20; 8:45 am]

BILLING CODE 3510-DS-P